DEPARTMENT OF THE INTERIOR

Bureau of Land Management

[BLM_NM_FRN_MO4500180435]

Public Meetings of the Southern New Mexico Resource Advisory Council, New Mexico

AGENCY: Bureau of Land Management, Interior.

ACTION: Notice of public meetings.

SUMMARY: In accordance with the Federal Land Policy and Management Act of 1976, as amended, and the Federal Advisory Committee Act of 1972, the U.S. Department of the Interior, Bureau of Land Management's (BLM) Southern New Mexico Resource Advisory Council (RAC) will meet as indicated below.

DATES: The Southern New Mexico RAC will participate in a field tour on Monday, September 16, 2024, from 8 a.m. to approximately 4 p.m. Mountain Time (MT). The RAC will then hold an in-person meeting, with a virtual participation option, on Tuesday, September 17, 2024, from 8 a.m. to 4 p.m. MT, with public comments accepted at 3:30 p.m.

The RAC will participate in a field tour on Thursday, January 23, 2025, from 8 a.m. to approximately 4 p.m. MT. The RAC will then hold an in-person meeting, with a virtual participation option, on Friday, January 24, 2025, from 8 a.m. to 4 p.m. MT, with public comments accepted at 3:30 p.m.

ADDRESSES: The September 16, 2024, field tour will commence and conclude at the BLM Roswell Field Office, 2909 West Second St., Roswell, New Mexico 88201-1287. The September 17, 2024, meeting will take place at the Roswell Field Office.

The January 23, 2025, field tour will commence and conclude at the BLM Socorro Field Office, 901 South Highway 85, Socorro, NM 87801-4168. The January 24, 2025, meeting will take place at the Socorro Field Office.

A virtual participation option is available on the Zoom Webinar platform. To register for the September 17 meeting, go to https://blm.zoomgov.com/webinar/register/WN_KQuXociiSi2T4cG1_q0jNQ. To register for the Jan. 24 meeting, go to https://blm.zoomgov.com/webinar/register/WN_hg9JTuxDQ7yG_dENBsP4YA.

FOR FURTHER INFORMATION CONTACT: Wendy Brown, BLM Pecos District Office, 2909 West Second Street, Roswell, New Mexico 880201-1287; telephone: 575-627-0259; email: wabrown@blm.gov. Individuals in the United States who are deaf, blind, hard of hearing, or have a speech disability may dial 711 (TTY, TDD, or TeleBraille) to access telecommunications relay services. Individuals outside the United States can use relay services offered within their respective country to make international calls to the accessibility point-of-contact in the United States.

For sign language interpretation services, language translation services, assistive listening devices, or other reasonable accommodations, please contact the individual listed above at least 7 business days before the meeting to ensure there is sufficient time to process the request. The Department of the Interior manages accommodation requests on a case-by-case basis.

SUPPLEMENTARY INFORMATION: The 12-member Southern New Mexico RAC advises the Secretary of the Interior, through the BLM New Mexico State Director, on planning and management of public land resources located within the jurisdictional boundaries of the RAC.

The September 16, 2024, field tour will include restoration/reclamation project sites in the Roswell Field Office, the Lesser Prairie Chicken Dunes Sagebrush Lizard Area of Critical Environmental Concern and adjoining areas, and recreational areas within the Field Office.

Planned meeting agenda items for the September 17, 2024, meeting include Albuquerque District updates with programs and major actions overviews; Las Cruces District updates with programs and major actions overviews (including an update on the Gila Box Riparian National Conservation Area); Pecos District updates with programs and major actions overviews; a presentation on dark skies designations; a presentation on the BLM Conservation and Landscape Health Rule (also known as the Public Lands Rule); and a discussion of land access issues in southern New Mexico.

The January 23, 2025, field tour will give the RAC the opportunity to see the Box Recreation Area and the Datil Well Recreation Campground.

Planned meeting agenda items for the January 24, 2025, meeting include Albuquerque District updates with programs and major actions overviews (including a presentation on the proposed Datil Well Recreation Area Campground fee increases); Las Cruces District updates with programs and major actions overviews; Pecos District updates with programs and major actions overviews (including a presentation on proposed fee increases for the Rob Jaggers Campground, Valley of Fires Recreation Area, Haystack Mountain Off-Highway Vehicle Area, and Mescalero Sands Off-Highway Vehicle Area); an oil and gas industry presentation by a ConocoPhillips representative; a discussion of land access issues in southern New Mexico; and votes on proposed recreation and campground fee increases.

Final agendas will be posted 2 weeks in advance of the meetings on the RAC web page at: www.blm.gov/get-involved/resource-advisory-council/near-you/new-mexico/southern-rac.

All meetings and field tours are open to the public, but members of the public who wish to participate in the field tours must provide their own transportation and meals.

Public Comment Procedures: The BLM welcomes comments from all interested parties. There will be a half-hour public comment period during the September 17, 2024, meeting beginning at 3:30 p.m. MT and during the January 24, 2025, meeting beginning at 3:15 p.m. MT for any interested members of the public who wish to address the Southern New Mexico RAC. Written comments pertaining to this meeting may be submitted in advance to the individual listed in the FOR FURTHER INFORMATION CONTACT section of this notice. Please include “RAC Comment” in your submission. Depending on the number of persons wishing to speak, the time for individual comments may be limited. Before including an address, phone number, email address, or other personal identifying information in any comment, please be aware that all comments—including personal identifying information—may be made publicly available at any time. While requests can be made to withhold personal identifying information from public review, BLM cannot guarantee it will be able to do so.

Detailed meeting minutes for the Southern New Mexico RAC are maintained in the BLM Roswell Field Office and in the BLM Socorro Field Office (see ADDRESSES). Meeting minutes will be available for public inspection and reproduction during regular business hours within 90 days following the meeting. Minutes will also be posted on the RAC web page at https://www.blm.gov/get-involved/resource-advisory-council/near-you/new-mexico/southern-rac.

(Authority: 43 CFR 1784.4-1)

James Stovall,
BLM Pecos District Manager.

[FR Doc. 2024-17440 Filed 8-6-24; 8:45 am]

BILLING CODE 4331-23-P